DEPARTMENT OF HEALTH AND HUMAN SERVICES

Health Resources and Services Administration

Advisory Commission; Notice of Meeting

In accordance with section 10(a)(2) of the Federal Advisory Committee Act (Pub. L. 92-463), announcement is made of the following National Advisory body scheduled to meet during the month of June 2001.

Name: Advisory Commission on Childhood Vaccines (ACCV)

Date and Time: June 7, 2001; 10 a.m.-12 p.m.

Place: Audio Conference Call

The full Commission will meet on Thursday, June 7, from 10 a.m. to 12 p.m. (eastern standard time) via audio conference call. The meeting is open to the public. The public can join the conference call by calling 1-877-709-5340 and providing the following information:

Leader's name: Thomas E. Balbier, Jr.

Password: ACCV

The agenda includes a briefing on the Institute of Medicine's Immunization Safety Review Committee Report on Measles-Mumps-Rubella Vaccine and Autism. Public comment will be permitted at the end of the presentation. Oral comments will be limited to 5 minutes per public speaker. Persons interested in providing an oral presentation should submit a written request, along with a copy of their presentation to: Ms. Cheryl Lee, Principal Staff Liaison, Division of Vaccine Injury Compensation, Bureau of Health Professions, Health Resources and Services Administration, Room 8A-46, 5600 Fishers Lane, Rockville, MD 20857, Telephone (301) 443-2124. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of their assigned presentation time.

Persons who do not file an advance request for a presentation, but desire to make an oral statement, may do so at the end of the presentation. If time is available, these persons will be allocated time to make oral statements.

Anyone requiring information regarding the Commission should contact Ms. Cheryl Lee, Principal Staff Liaison, Division of Vaccine Injury Compensation, Bureau of Health Professions, Health Resources and Services Administration, Room 8A-46, 5600 Fishers Lane, Rockville, Maryland 20857, Telephone (301) 443-2124.

Agenda items are subject to change as priorities dictate.

Dated: May 18, 2001.
Jane M. Harrison,
Director, Division of Policy Review and Coordination.

[FR Doc. 01-13139 Filed 5-23-01; 8:45 am]

BILLING CODE 4160-15-P